FEDERAL COMMUNICATIONS COMMISSION

47 CFR Part 52

[WC Docket No. 18-336; FCC 20-100; FRS 16962]

Implementation of the National Suicide Hotline Improvement Act of 2018

AGENCY: Federal Communications Commission.

ACTION: Final rule.

SUMMARY: In this document, the Federal Communications Commission designates 988 as a simple, easy-to-remember, 3-digit dialing code for a national suicide prevention and mental health crisis hotline. All covered providers are required to implement 988 in their networks by July 16, 2022.

DATES: Effective October 16, 2020.

FOR FURTHER INFORMATION CONTACT: Michelle Sclater, Competition Policy Division, Wireline Competition Bureau, at (202) 418-0388, Michelle.Sclater@fcc.gov.

SUPPLEMENTARY INFORMATION: This is a summary of the Commission's Report and Order in WC Docket No. 18-336, adopted on July 16, 2020 and released on July 17, 2020. The document is available for download at https://docs.fcc.gov/public/attachments/FCC-20-100A1.pdf. To request materials in accessible formats for people with disabilities (Braille, large print, electronic files, audio format), send an email to FCC504@fcc.gov or call the Consumer & Governmental Affairs Bureau at 202-418-0530 (voice), 202-418-0432 (TTY).

Synopsis

I. Report and Order

1. In this Report and Order, we designate 988 as the 3-digit number for the Lifeline. We also address implementation of 988 in detail. In particular, based on the record, we require all covered providers to fully implement 988 in their networks by July 16, 2022. We conclude that the benefits of implementing 988 far exceed the costs.

A. Designation of 988 as the 3-Digit Dialing Code for the National Suicide Prevention Lifeline

2. We first adopt our proposal to designate a 3-digit dialing code for a national suicide prevention and mental health crisis hotline system. The record reflects that Americans in crisis are in need of an easy-to-remember number to access the Lifeline's potentially life-saving resources. And the record overwhelmingly reflects support from a wide variety of stakeholders and from many members of the public for designating a 3-digit dialing code for this important purpose. Indeed, over 1,100 commenters expressed support for our proposal. We agree with LGBT Technology Partnership that “[t]he establishment of this number will undoubtedly help individuals in crisis get access to help and resources more efficiently and with less barriers than current systems.” Commenters, including mental health organizations and crisis/counseling centers, agree that designating a 3-digit dialing code will increase, simplify, and improve access to the Lifeline; enhance public awareness of mental health services; and reduce the stigma surrounding suicide and mental health issues. As SAMHSA explains, designating a 3-digit code to reach the Lifeline would send “the message that mental health crises and suicide prevention are of equivalent importance to medical emergencies,” and “would, over time, bring needed parity and could result in additional attention and resources to improve typical local psychiatric crisis services throughout the nation.” Further, the record reflects that a 3-digit dialing code has the potential to “become as ubiquitous as 911” and align the importance and level of care of crisis services with the same urgency as 911 emergency services. For all of these reasons, we adopt our proposal to designate a 3-digit dialing code for a national suicide prevention and mental health crisis hotline system. We also note that no commenter opposes designation of a 3-digit number for this important purpose.

3. We next adopt our proposal to specifically designate 988 as the 3-digit dialing code for a national suicide prevention and mental health crisis hotline system, and to require that service providers transmit all calls initiated by an end user dialing 988 to the current toll free access number for the Lifeline. The record reflects widespread support in favor of 988, and we conclude that designating 988 is preferable to other 3-digit numbers and is the easiest and fastest path to ubiquitous deployment of a short, easy-to-remember dialing code for the Lifeline.

1. Designating a Wholly Unique 3-Digit Dialing Code vs. an Existing N11 Code

4. We find that designating a wholly unique 3-digit number such as 988 is superior to designating an existing N11 number. First, a unique 3-digit code obviates the need to “age” an existing N11 code. As NCTA and GCI explain, repurposing an existing N11 code would involve a “significant delay” because “these numbers would have to be taken out of service and aged for some period of time before they could begin to be used for the suicide prevention hotline.” Aging an existing N11 code would be necessary “to avoid system and consumer confusion” and “provide time for educational efforts to be implemented” for the code's new purpose. 988 does not require aging and thus its use will reduce the overall implementation timeline. Second, consumer education campaigns for 988 will be simpler and likely more effective than those needed for repurposing or expanding an existing N11 code. The record reflects that consumer education campaigns would likely need to be longer if we were to repurpose an existing N11 code instead of designating 988 because, among other things, “in addition to informing the public about the new, shorter number for the Lifeline, “existing callers of the [N11] number would also have to be informed that it is no longer available for its current purpose.” By contrast, consumer education campaigns for 988 will be simplified because such campaigns will be exclusively focused on the suicide prevention and mental health crisis hotline, thereby expediting 3-digit access to the hotline. Third, we find that using a wholly unique 3-digit code like 988 will be less disruptive to existing users and service providers. All of the existing N11 codes receive at least 1.6 million or more calls per year, and most receive tens of millions of calls or more annually. Repurposing any of these heavily used numbers would thus require significant time and resources. As Mental Health America explains, given that existing N11 numbers “are being utilized for other national, state, and local priorities . . . repurposing those numbers for crisis use will cause confusion or delays to needed services, depending on the existing utilization of the [N]11 number.” At the same time, the crisis hotline would be inundated with misdirected callers seeking other information, causing confusion and delay for those callers, and potentially lost lives if a caller in need cannot speak with a counselor quickly. Finally, we find that designating a wholly unique 3-digit code such as 988 is preferable to any of the specific N11 codes, as discussed below.

5. Expanding 211. Based on the record, we decline to expand 211 beyond providing community information and referral services to include suicide prevention and mental health crisis services. We find that establishing a single-purpose 3-digit code will be more effective and easier to implement than expanding 211. In particular, the record reflects widespread support for a code dedicated solely for the purpose of a national suicide prevention and mental health crisis hotline system instead of a multi-purpose code, such as 211, that risks callers in crisis navigating a complex phone tree and experiencing confusion and delay to access trained crisis counselors. As SAMHSA explains:

First, the national suicide prevention number should have a single purpose, as does the current number 800-273-TALK (8255). . . . Utilizing the same number for both round-the-clock suicidal crisis response, as well as for non-crisis information and referral, would be problematic . . . Second, not all 211 centers have crisis center capacity. . . . This would mean in order to avoid 211 callers in suicidal crisis from being directed to a 211 center that did not have the capacity to respond to their crisis, it would be necessary to have a recorded response tree where callers would first have to press 1 or 2 to be connected to the Lifeline and then press one again to be connected to the veteran crisis line. This could potentially mean a 10-15 second delay in response time for millions of calls. The alternative would be a longer and more confusing single recorded message that could lead to the Veterans Crisis Line being flooded with non-[V]eterans crisis calls.

The record indicates that expanding 211, or other N11 codes, will cause “confusion or delays[,]” inhibiting “the ability of callers in crisis to access the help that they need.” Vibrant Emotional Health, which administers the Lifeline for SAMHSA, asserts that an expansion of 211 would be ineffective for such a hotline, explaining that a single-purpose, 3-digit dialing code would “provide a platform that can be more easily integrated in society and enhance public awareness about the different functions of each distinct three-digit number.”

6. We find that expanding 211 would lead to unnecessary complications, delaying implementation and risking confusion by Americans seeking urgent help. SAMHSA has previously explained that although “the number 211 is associated with information and referral, [it] does not communicate that this number is a number that suicidal people or their families can call at any time of the day or night for immediate crisis intervention.” Moreover, as the NANC explained, even with 20 years of operation, 211 “is not ubiquitously deployed across networks, is not managed by a sole operator, and the services offered may not be consistent among operators.” Additionally, as The Trevor Project points out, “a 211 designation would require re-training of 211 operators.” Further, SAMHSA's past experience using one hotline for a dual purpose is instructive here. Specifically, in the aftermath of Hurricane Katrina, SAMHSA used the Lifeline for disaster relief efforts in addition to suicide prevention, and SAMHSA observed that the callers trying to obtain disaster relief were confused as to why they were directed to call a suicide hotline.

7. For all of these reasons, we find unpersuasive assertions from some commenters that because 211 already offers community services, including crisis and suicide prevention services in some areas, it would allow for an easier and faster nationwide implementation than 988. We similarly reject legacy carriers' arguments that we should designate 211 because (1) legacy switches can already accommodate all N11 codes, including 211, which would minimize the number of switches these carriers would need to upgrade or replace; (2) software for 211 already exists; and (3) expanding 211 would not require transition to 10-digit dialing. As discussed below, we estimate that only 12% of switches nationwide will need to be upgraded or replaced to accommodate software and programming changes to implement 988 routing. Further, a transition to 10-digit dialing is necessary to accommodate 988 in less than 27% (87 out of 329) of geographic area codes nationwide. While technical implementation of 211 likely would be easier and faster for carriers with legacy switches in areas where seven-digit dialing presents a barrier to 988 implementation, the serious problems arising from expanding 211's role undercut these technical advantages. More importantly, expanding 211's role risks confusion and delay for callers to the Lifeline, putting Americans' lives at avoidable risk. We see no purpose in designating a 3-digit code that would likely undermine, rather than improve, the Lifeline's effectiveness. As discussed above, we are concerned that expanding 211 would lead to significant delays in establishing a ubiquitous system capable of handling both calls of the utmost importance from those in suicidal distress as well as existing 211 calls. And as discussed below, there is no record support for expanding or repurposing any other N11 number.

8. Repurposing or Expanding Other N11 Codes. We also decline to repurpose or expand any of the other existing N11 codes (311, 411, 511, 611, 711, 811, 911) for a national suicide prevention and mental health crisis hotline. In the Notice, we sought comment on the findings in the FCC Staff Report that (1) repurposing 511 would endanger public safety because the code enables drivers to receive information on road conditions during emergencies and information relating to AMBER and other public-safety alerts; (2) repurposing 611—an N11 code that receives at least 297 million calls annually—could result in a hotline inundated with misdirected calls and increased risk of caller confusion, delay, and loss of life if access to a counselor is not readily available; and (3) expanding or repurposing 311, 411, 711, 811, and 911, is not feasible and/or desirable. The record reflects no arguments suggesting that we should expand or repurpose any of these N11 codes, and the few commenters who address the issue suggest the opposite. We thus affirm the FCC Staff Report's findings that repurposing or expanding other N11 codes is not feasible, and would create confusion and significant delays to callers in crisis, as each code is widely-used and already serves an important purpose.

2. Designating 988 vs. Other Non-N11 Codes

9. Consistent with the NANC and FCC Staff Reports, we find that 988 has technical advantages over other non-N11 3-digit numbers. As we explained in the Notice, 988 is not currently assigned as a geographic area code and therefore does not suffer the same problems as repurposing an existing area code. Moreover, for a switch to detect a new, non-N11 3-digit code, it helps if the code is not comprised of the leading digits (often called the “prefix”) of a local number, and 988 has fewer corresponding central office code assignments across the U.S. than other codes the NANC considered, making it less disruptive to adopt than those other codes. None of the comments we received on the Notice cause us to depart from these views. For example, while ATIS points out that designating 988 as the 3-digit dialing code for the Lifeline bars it from being used as an area code and therefore “results in millions of numbers being made unavailable” for use by consumers, this is surely no reason to forego choosing 988. The NANC, in consultation with North American Numbering Plan Administrator, has already found that one area code such as 988 going unused is unlikely to materially affect number exhaust. In fact, excluding 988, there are 248 currently unassigned area codes, representing billions of potentially available phone numbers.

10. For all of the foregoing reasons, we find that 988 remains the best choice as the 3-digit dialing code for the Lifeline.

B. Implementation of 988

1. Providers Subject to 988 Implementation Requirements

11. In the Notice, we proposed requiring that all telecommunications carriers and interconnected VoIP providers implement 988 by transmitting all calls initiated by an end user dialing 988 to the current toll free access number for the Lifeline. We also specifically sought comment on including one-way VoIP providers. As we explained, our proposed requirement would thus apply to those providers that access the public switched telephone network (PSTN) on an interconnected basis to reach all Americans. While the Notice used the term “one-way interconnected VoIP,” here we use the term “one-way VoIP” with the same intended meaning. While there is no substantive difference in meaning, we expect “one-way VoIP' to be clearer and more precise because we have only expanded the definition of interconnected VoIP to include one-way VoIP in the specific context of our 911 rules and because, outside of the 911 context, we have most typically used the term “one-way VoIP.” No party opposed our proposal to require implementation by all telecommunications carriers and interconnected VoIP providers, and no commenter directly addressed our proposal to include one-way VoIP providers.

12. We adopt our proposal to require all telecommunications carriers and interconnected VoIP providers to implement 988 in their networks. We also require one-way VoIP providers to implement 988. We do not require one-way VoIP providers to add the capacity to dial 988 if their customers cannot initiate any calls using telephone numbers. We note that as a practical matter, the requirement to direct calls made to 988 to the Lifeline is relevant only for customers who can make calls to 988. One-way VoIP services differ from their two-way counterparts in that they can either initiate outbound calls terminating to PSTN or receive calls originating from the PSTN, but not both. Applying our rules here to one-way VoIP aligns with our application of our rules to one-way VoIP providers in a number of other contexts, including the recent Caller ID Authentication Report and Order. As is true for the caller ID authentication framework, the 988 dialing code must be ubiquitously deployed to maximize its benefits. The FCC Staff Report, for example, observed, “suicide does not discriminate by geographic region, and to be effective, any code designated for a national suicide and mental health crisis hotline must be ubiquitously deployed.” SAMHSA, USTelecom, and other commenters have echoed this finding, arguing that 988 should be deployed “ubiquitously across all networks.”

13. Requiring one-way VoIP providers to implement 988 is also consistent with our recent expansion of the scope of our 911 rules to include one-way VoIP services. We observed that, “from a 911 perspective, outbound-only interconnected VoIP services are functionally equivalent to landlines and other interconnected devices that connect to the PSTN and are 911-capable,” and therefore treating them differently would “breed consumer confusion, particularly when a caller is seeking help in a time of crisis.” These same consumer expectations and the exigent nature of a call made to the Lifeline inform our decision to obligate one-way VoIP service providers to implement 988. Suicide and mental health crises are an emergency like any other. An individual in crisis capable of calling 911 via a one-way VoIP service should similarly expect that a call to 988 will go through.

14. We find that section 251(e)(1) of the Act provides authority for us to apply the requirements we adopt today to all covered providers. In the Notice, we proposed that section 251(e)(1) gives us the authority to “designate 988 as the 3-digit dialing code for a national suicide and mental health crisis hotline system, and to require providers of telecommunications and interconnected Voice over internet Protocol (VoIP) services to take appropriate and timely action to implement this requirement.” No commenter appears to dispute these conclusions. Section 251(e)(1) of the Act grants the Commission “exclusive jurisdiction over those portions of the North American Numbering Plan that pertain to the United States” and provides that numbers must be made “available on an equitable basis.” This provision gives the Commission “authority to set policy with respect to all facets of numbering administration in the United States” and has been invoked by the Commission in previous rulemakings designating national 3-digit dialing codes. In addition, as we explained in the Notice, our numbering authority allows us to apply numbering-related requirements to interconnected VoIP providers using telephone numbers. We also find that section 251(e)(1) equally gives us authority to extend our 988 rules to one-way VoIP services that provide callers with access to the PSTN. One-way VoIP services connect to the PSTN and therefore make use of numbering resources in a manner similar to two-way interconnected VoIP providers, which brings them within the scope of our section 251(e) authority.

2. Routing 988 Calls

15. In the Notice, we raised the issue of whether to route calls made to the 988 dialing code to a centralized destination or to localized call centers. Specifically, we proposed requiring covered providers to route 988 calls to 1-800-273-8255 (TALK), the current toll free access number for the Lifeline and the Veterans Crisis Line. Alternatively, we sought comment on requiring covered providers to route 988 calls directly to a local Lifeline or Veterans Crisis Line call center.

16. We adopt our proposal to require all covered providers to route 988 calls to 1-800-273-8255 (TALK). We note that covered providers are required to transmit the calling party number when routing calls to 988 in accordance with our call delivery requirements. We decline to adopt a proposal to require multi-line telephone systems (MLTS) to allow callers to reach the Lifeline by dialing 988 and no other digits. As Metaswitch correctly observes, the Commission recently adopted a similar requirement for 911 calls, based on authority granted to the Commission by Kari's Law. While we appreciate the concerns raised by Metaswitch, we note that Kari's Law pertains specifically to 911 calls, and we lack a similar grant of statutory authority over equipment to apply these requirements to 988 calls. In the Notice, we explained that routing 988 calls to the existing toll free number for the Lifeline was likely to “provide the most efficient means to establish 988 as a national suicide prevention hotline.” The record overwhelmingly supports this conclusion. Our centralized routing approach has considerable benefits both for the covered providers that must route 988 calls and for the Lifeline itself. The record shows that together, these benefits will allow for faster implementation of the 988 dialing code, lower costs to maintain 988 routing, and better Lifeline service. For example, USTelecom states that “routing [988] calls to one, national number will ease the burden of routing calls once the network switches are programmed” and will also “allow the Lifeline platform provider with the flexibility to modify the underlying routing based upon the resource demand of their call centers.” AT&T further explains that not only does centralized routing present a more streamlined solution to directing 988 calls, it will also “present a lower risk of misdirected calls than routing to different numbers for individual calls centers,” resulting in greater system reliability for the Lifeline. Similarly, Vibrant Emotional Health, the administrator of the Lifeline, explains that centralized routing “will optimize service cost efficiencies and effectiveness” of the Lifeline, including improving network resilience, data collection, and quality control, and providing the Lifeline with the “flexibility to design specialized routing for self-identifying groups, such as veterans, Spanish speakers, or LGBTQ youth.” And PRS CrisisLink, a Lifeline crisis center in Virginia, states that “a centralized routing structure increases the capacity of the Lifeline when compared to a response provided only at a local level.”

17. We also find that routing calls to one number will help ensure that callers who are deaf, hard of hearing, deafblind, or who have speech disabilities can access the Lifeline consistent with sections 225 and 255 of the Act. The Lifeline is currently available to users of telecommunications relay services (TRS) through 1-800-273-8255 (TALK), and TRS users will continue to be able to access the Lifeline through these services upon implementation of the 988 dialing code. In addition, the Lifeline maintains a separate TTY number, as well as an online chat portal, which will likewise remain available. Similarly, existing Commission rules require internet-based TRS providers to ensure that callers using Video Relay Service, internet Protocol Relay, and internet Protocol Captioned Telephone Service reach the Lifeline by dialing 988 upon its implementation. VRS and IP Relay providers are required to route and deliver all calls, which will include calls to 988. IP CTS providers are subject to the routing obligation when such providers are the underlying VoIP provider for their service. Upon implementation of the 988 dialing code by covered providers, TRS and internet-based TRS users will be able to substitute 988 for 1-800-273-8255 (TALK) and continue to reach the services they need. Users of speech-to-speech services and TTY-based TRS will still dial 711 first to connect to a communications assistant who will complete the call to the Lifeline. TTY users may also dial 800-799-4889 for a TTY-to-TTY direct connection to the Lifeline.

18. Although some commenters note that the alternative approach of routing calls directly to local crisis centers may have some benefits as well, we find that the benefits of centralized routing greatly exceed those of localized routing. In particular, we believe that centralized routing to a single number will be far faster to implement and will simplify the administration of the Lifeline.

19. Finally, we address the Telecommunications Bureau of Puerto Rico's request that we require calls to 988 originating in Puerto Rico to be routed directly to the current suicide prevention call center in Puerto Rico as opposed to 1-800-273-8255 (TALK). In support of its request, the Telecommunications Bureau of Puerto Rico explains that for local residents, “the ability to converse in Puerto Rican Spanish, including the use of particular idioms unique to Puerto Rico, will facilitate . . . crisis call counselors in assisting those calling for help,” and that while the Lifeline uses an interactive voice response system to direct calls either to the Veterans Crisis Line or the Spanish Line, “[d]ialing through an automatic system that is in English is not the preferred method to help the at-risk population in Puerto Rico.” Although we are sympathetic to the concerns raised by the Telecommunications Bureau of Puerto Rico, we decline to require direct local routing to the current suicide prevention call center in Puerto Rico at this time. We find that the benefits that the Telecommunications Bureau of Puerto Rico identifies could be achieved without the added costs (including likely delays in 988 implementation) that non-centralized routing would entail. In particular, while the Lifeline does not currently have a crisis center in Puerto Rico, SAMSHA invites crisis centers to seek certification to participate in the Lifeline network. If SAMHSA were to approve a local crisis center located in Puerto Rico, then under the Lifeline's current routing procedures, calls to 988 originating from a Puerto Rico area code could be directed to that local crisis center rather than to a Lifeline crisis center outside of Puerto Rico. We therefore encourage stakeholders in Puerto Rico to work with SAMHSA to bring a local crisis center in Puerto Rico into the Lifeline network.

3. Dialing in Certain Geographic Areas

20. In the Notice, we sought comment on how to address 988 implementation in areas of the country that currently permit 7-digit dialing and also use 988 as a central office code. In these areas, 988 are the first three digits of some 7-digit local phone numbers (988-XXXX), meaning that “a switch would need to distinguish between calls made to the suicide prevention and mental health crisis hotline and the assigned 988 central office code.” This issue primarily affects wireline networks with legacy switching infrastructure since most wireless and VoIP services already require 10-digit dialing and tend to use newer switch hardware and software. The Notice estimated that, as of September 2019, there were “95 area codes that both still use 7-digit dialing and have assigned 988 as an NXX prefix,” and sought comment on mandatory 10-digit dialing and use of a dialing delay as two solutions for implementing 988 as a 3-digit dialing code in these areas. However, we note that ATIS, in its comments in response to the Notice, states that “[a]s of February 5, 2020, there are 92 affected area codes in which there is 7-digit dialing and 988 is in use as an NXX code . . . .” According to current information, there are 90 areas codes that both still use 7-digit dialing and have assigned 988 as an NXX prefix, three of which are already in transition to 10-digit dialing and will complete implementation by the end of 2021.

21. As we explained in the Notice, “[o]ne solution is the introduction of a dialing delay after 988 is entered—the switch would recognize that the caller is dialing 988 rather than a local 988-XXXX number when no digits are entered after 988. The downside with such an approach, as the NANC has noted, is that such a dialing delay `could result in the caller terminating the call because he thinks the call failed, or [result in] unrelated calls being routed to the hotline when a 7 digit number is dialed too slowly.'” Alternatively, “requiring 10-digit dialing would enable the switches to distinguish between calls made to the national suicide prevention hotline system and those made to a number beginning with a 988 prefix. With 10-digit dialing, a caller must first input the 3-digit area code before entering a 7-digit number. Thus, an individual attempting to call a 988-XXXX number would first have to input the area code (i.e., XXX-988-XXXX), avoiding the problem of calling the hotline in error.” The Commission has previously mandated 10-digit dialing “in cases of area-code relief, which involves establishing a new area code for a geographic region after the existing area code runs out of NXX prefixes.”

22. To facilitate efficient implementation of 988 and to make reaching 988 as easy as possible for Americans across the country, we require covered providers to implement 10-digit dialing in areas that both use 7-digit dialing and 988 as an NXX prefix. In a 10-digit number, (XXX) YYY-ZZZZ, the NXX code is the three digits labeled “YYY.” The record generally supports the use of 10-digit dialing, rather than a dialing delay, and we agree with commenters who favor 10-digit dialing. In particular, the record demonstrates that 10-digit dialing will be “the simpler, easier, and less costly approach for 988 implementation” and will provide 988 callers with a more reliable connection to the resources they need when compared with a dialing delay. Implementation of 10-digit dialing will ensure that callers in crisis are able to dial 988 and obtain a connection to the Lifeline without unnecessary delay, and without the confusion and frustration that may result from a dialing delay, as we discuss further below. Moreover, 10-digit dialing has the potential to avoid misdirected calls to the Lifeline, which will conserve scarce resources that are better spent helping callers in need.

23. By contrast, the record reflects that dialing delays present a number of technical and logistical challenges, making their use a less desirable solution for routing 988 calls. As an initial matter, several commenters note that dialing delays may not be supported by some switches at all. If we were to mandate use of a dialing delay, these switches may have to be replaced entirely, which would add unnecessary costs to the implementation of 988 by service providers. In addition, for those switches that do support use of a dialing delay, the length of the supported delay may vary widely. We note that at least one provider has already opted to implement 988 on a voluntary basis, using a dialing delay of 10 seconds. We encourage any service providers considering early implementation of 988 to coordinate their efforts with Commission staff, SAMHSA, and the VA. AT&T, for example, indicates that for its network, “some . . . legacy wireline switches accommodate a delay of relatively short duration (i.e., 4 seconds or 6 seconds), whereas other AT&T switches accommodate a longer delay (i.e., 14 seconds).” We agree with commenters who argue that, because of this variability, use of a dialing delay for routing 988 calls risks confusion and misdirected calls. As the NANC Report found, routing 988 calls with a dialing delay could result in nonemergency calls being misdirected to the Lifeline if, for example, a 7-digit number is dialed too slowly. And, as Verizon argues, this could in turn “adversely affect[] the availability of hotline resources to callers in critical need.” While dialing delays that are too short could lead to a significant number of calls being misdirected to 988, longer dialing delays could also hinder access to the Lifeline, if, for example, a caller were to terminate a 988 call before the dialing delay elapsed, thinking the call had failed. As AT&T argues, the use of a dialing delay to route 988 calls “would inevitably lead some 988 callers in crisis to terminate the call.” This risk is particularly acute for the longer delays that would be required by some legacy switches, which could lead to inconsistent access to 988 service across different areas of the country. As the American Association of Suicidology indicates, given the critical nature of the crisis counseling service offered by the Lifeline, any length of delay in connecting a call may be detrimental. We therefore agree with those who argue that use of a dialing delay to route 988 calls could have “unavoidable adverse impacts” for the Lifeline.

24. Because 10-digit dialing will be simpler to implement and better for callers than a dialing delay, we reject GCI's argument that we should defer to the judgment of state regulators as to which option is most appropriate in particular states. To support its request, GCI argues that in Alaska “it would make little sense to mandate 10-digit dialing” because 988 is employed as a wireless NXX in only one rate area in Alaska. But GCI does not offer any specific reasons to support its conclusions regarding the comparative benefits of 10-digit dialing and a dialing delay in Alaska. Its brief, general claims that 10-digit dialing is costly and confusing to consumers run contrary to the extensive evidence in the record discussed above. We expect that implementing a dialing delay in some parts of the country and 10-digit dialing in others is likely to heighten the risk of failed attempts to reach 988 in dialing delay areas because individuals from outside those areas are unlikely to realize that a dialing delay is necessary. Based on the foregoing analysis, we conclude that we should adopt a uniform nationwide policy requiring 10-digit dialing in areas in which 988 is an NXX code.

25. Administration. We are confident that covered providers and the North American Numbering Plan Administrator, a neutral administrator of numbering resources shared by the 20 member countries of the North American Numbering Plan, will be able to efficiently implement 10-digit dialing in the 87 area codes where it is necessary. Providers have already converted to 10-digit dialing in the geographic areas encompassed by 77 area codes. Providers routinely manage 10-digit dialing transitions in multiple area codes simultaneously. For example, in 2001, providers transitioned 11 area codes to 10-digit dialing. More recently, providers transitioned 7 area codes to 10-digit dialing in 2017. We disagree with AT&T's argument that these observations are “misleading” because these transitions had “overlapping, staggered . . . implementation schedules” and were “spread among multiple wireline providers.” As AT&T itself points out, its own team is “extremely experienced” conducting overlays and has in the past managed multiple such projects in a single year. Further, arguments concerning the historical rate at which NPAs transitioned to 10-digit dialing are misplaced. These transitions took place as necessary to facilitate area-code relief efforts as needed, and their frequency in prior years does not speak to the question of whether providers could have transitioned more area codes to 10-digit dialing, had there been a demonstrated need to do so. The Commission has granted authority to state public utility commissions to implement 10-digit dialing in cases of area-code relief, which involves establishing a new area code for a geographic region that is fast approaching exhaust. In a typical case, when an area code is approaching number exhaust, the North American Numbering Plan Administrator, acting with the input of and on behalf of affected carriers, petitions the state to implement 10-digit dialing and add a new area code, typically “overlaid” on the existing one. In an area code “overlay,” a new area code is opened in the same geographic area as the area code requiring relief. With an overlay, consumers can keep their area code and telephone number while numbers from the new area code may be assigned to new telephone customers or those adding additional lines. The other possible solution to address running out of numbers in an area code—a geographic area code split—has not been employed since 2007. The state commission then adopts an order that sets forth an implementation schedule. Of the seven such orders for which implementation is ongoing (encompassing 9 area codes), six set forth a 13-month implementation schedule, and one sets forth an approximate 9-month implementation schedule. The 13-month implementation schedules each allocate six months for carriers to prepare their networks for 10-digit dialing and the new area code; six months of consumer education and “permissive” 10-digit dialing, in which affected consumers may employ either 7- or 10-digit dialing; and one additional month at the end of the transition period to activate the new area code.

26. We direct covered providers to coordinate their implementation of 10-digit dialing in the 87 area codes at issue with the North American Numbering Plan Administrator. We expect implementation to proceed faster than in the cases of adding a new area code discussed above. Because we direct 10-digit dialing in these 87 area codes pursuant to our exclusive jurisdiction, no state public utility commission action is needed. AT&T asserts that a state public utility commission order typically precedes the 13-month implementation timeline, and that, as a result “a lack of PUC action affords no reduction in the typical 13-month implementation timeline.” We agree, but AT&T fails to account for ongoing state oversight of a typical transition to 10-digit dialing. In the ordinary course, state public utility commissions may intervene in the overlay process, potentially slowing the transition to 10-digit dialing. The last step in implementing 10-digit dialing to add a new area code—the one month period for activating the new code—is not necessary because these transitions do not involve a new area code. We also believe that the 6-month permissive dialing period could be shortened to facilitate meeting the two-year deadline for 988 implementation across all of the area codes and because there are likely to be synergies in terms of consumer education when transitioning multiple areas. We disagree with arguments submitted by AT&T, CenturyLink, and USTelecom expressing skepticism regarding whether standard consumer education periods can be shortened. AT&T, for example, states that outreach and technical implementation “are already performed in tandem during the 13-month transition period.” Contrary to AT&T's claims however, this suggests that the standard 13-month transition period—which accounts for two separate six-month periods for consumer outreach and technical work—can be curtailed if necessary. We expect that economies of scale and lessons learned regarding the logistical and technical processes for the transitions will reduce the time necessary to both prepare and execute transitions to 10-digit dialing in these area codes. We expect that covered providers, in coordination with the North American Numbering Plan Administrator, will be able to develop a standard implementation plan that addresses both outreach and staging, which covered providers will be able to use in many, if not most, areas. Additionally, we anticipate that consumer education planning and outreach to consumers and affected businesses and government agencies can be accomplished more quickly and simply than in cases of a new area code, as the move to 10-digit dialing does not involve the introduction of new area codes or switching telephone numbers for consumers or others. In addition, outreach can begin right away, and be done in tandem with technical implementation, further compressing the timeframe for transitioning to 10-digit dialing in these areas. We also expect less education to be necessary than in years past because, by now, even in areas in which legacy carriers make 7-digit dialing available, most consumers are familiar with and accustomed to 10-digit dialing with their mobile devices, as well as in visiting one or more of the many areas throughout the country in which 10-digit dialing is mandatory. For all of these reasons, we disagree with USTelecom's reliance on previous 10-digit transition timeframes to claim that a “set timeline of less than 5 years to transition to 10-digit dialing is most likely not feasible.”

27. We recognize that covered providers may need to implement 10-digit dialing on a staggered basis within the time available. We direct the North American Numbering Plan Administrator to develop, based on input from covered providers, an implementation schedule that will allow all covered providers to meet the transition deadline in an efficient manner that best accounts for the challenges each covered provider faces. The North American Numbering Plan Administrator shall promulgate a 10-digit dialing transition plan that enables timely implementation within 30 days of release of this Order based on its expertise and any input it receives from covered providers within that time. We decline the recent suggestion by AT&T and CenturyLink that we delay the implementation deadline by the period it takes the North American Numbering Plan Administrator to complete the schedule and until the Commission publishes the schedule. AT&T suggests that the planning process will consume valuable portions of the two-year implementation timeline that providers will need. As discussed elsewhere, in setting the deadline of July 16, 2022, we accounted for the challenges covered providers face in implementing 10-digit dialing, including necessary planning. Further, neither party explains why implementation work could not begin right away during the pendency of the implementation schedule, which we expect to set dates for completion of work, rather than dates to start. We do not see any value in the Commission publishing the implementation schedule, nor do AT&T and CenturyLink identify any. We direct the North American Numbering Plan Administrator to communicate the schedule, once established, to state public utility commissions in states in which 10-digit dialing will be necessary so that they can address any specific consumer education and outreach measures they deem appropriate. We caution that we would not expect states to take any actions that would complicate or delay the implementation of 988 or the requirement we impose for 10-digit dialing in certain areas. Finally, we direct the Wireline Competition Bureau to monitor the progress of the 87 area codes transitioning to 10-digit dialing in coordination with the North American Numbering Plan Administrator. We decline USTelecom's suggestion that we require the Wireline Competition Bureau “to issue a report at the end of 12 months from adoption of the final Order to assess whether additional time is needed to complete the 10-digit dialing transition in certain NPAs.” It is not obvious that twelve months is the optimal point at which to evaluate progress. Should a covered provider file a waiver request, the Wireline Competition Bureau will be able to make use of information from its ongoing monitoring in coordination with the North American Numbering Plan Administrator to evaluate the merits of the waiver request at that point in time.

4. Implementation Timeframe for Ubiquitous Deployment of 988

28. In the Notice, we proposed requiring that covered providers implement 988 in their networks within 18 months of publication of the final order in the Federal Register. Alternatively, we sought comment on whether we should adopt a shorter or longer timeframe for implementation such as one year or two years. Additionally, we asked whether we should consider the size of a carrier's network, including the need to simultaneously replace multiple legacy switches, when determining the appropriate implementation timeline. We further sought comment on whether the use of legacy-switch technology warranted a phased-in approach to implementation, and if so, how such an approach should work.

29. For ubiquitous implementation of 988, covered providers must overcome two primary hurdles that drive our need to provide time for implementation. First, such providers must implement 10-digit dialing in the 87 area codes that continue to permit 7-digit dialing and also use 988 as a central office code. As discussed above, transitioning to 10-digit dialing involves both the technical work needed to implement 10-digit dialing as well as educating consumers about the transition.

30. Second, such providers must reprogram, upgrade, translate, or replace those switches that would not otherwise support 988 as a 3-digit dialing code. Covered providers must also work to implement 10-digit dialing, and we recognize that some legacy providers face a higher logistical burden in areas that require both steps. Our deadline is constrained by those legacy providers because many non-legacy voice services already require 10-digit dialing and use newer switch hardware and software in which implementing 988 is straightforward and swift. In the Notice, we estimated that approximately 88% of the nation's switches can today accommodate 988, and nothing in the record suggests otherwise. Therefore, the vast majority of providers could easily implement 988.

31. We set a uniform implementation deadline of July 16, 2022, to allow sufficient time—but no more time than necessary—for covered providers to meet the challenges of implementing 10-digit dialing in 87 area codes and of making necessary changes to their switches. Under our precedent, we have the flexibility to set a deadline that is most appropriate to the particular 3-digit code at issue. We have set implementation deadlines in the past ranging from six to 24 months. USTelecom, AT&T, and CenturyLink argue that our action today is inconsistent with the Commission's adoption of 811 because in the latter case the Commission calculated the two-year deadline Federal Register publication, whereas we calculate our two-year deadline from adoption. However, the deadlines the Commission set for previous N11 transitions are particular to their circumstances, and the facts here—particularly the pressing need to make 988 available nationwide as quickly as possible to help prevent suicides—are unique to this record. Moreover, 811 needed to be repurposed when the Commission designated it for use as a call-before-you-dig number because it was being used in some jurisdictions for free repair calls and as a 911 test code, which required a longer customer education period—a circumstance that is not present here. Further, in the 15 years since the 811 Designation Order, we expect covered providers to have invested both their own funds and universal service support that they have received in their networks such that upgrades—even comparatively more complex ones—could be handled more quickly. Our guiding principle in setting this deadline is to minimize the time for 988 implementation to help address the growing epidemic of suicide in this country as quickly as possible. We agree with the American Association of Suicidology that it “is crucial that the three-digit hotline be made available as readily as possible” because “[i]ncidences of mental health conditions and suicide rates are increasing every year.” Similarly, we agree with The Trevor Project that “[t]he longer the delay the more likely it is we will lose individuals who don't know where to access help, or who will not be able to remember a 10-digit number in a moment of crisis, but who would remember 988 after an effective public education campaign.” And our cost-benefit analysis below shows that the benefits of implementing 988 greatly outweigh the costs—swift implementation will allow Americans to reap those benefits sooner. For these reasons, it is paramount that providers establish 3-digit access to the Lifeline as quickly as possible.

32. We find that July 16, 2022, provides sufficient time for all covered providers to implement both 10-digit dialing and any necessary changes to their switches. As to 10-digit dialing, covered providers must transition 87 areas codes to 10-digit dialing, far more than the 9 for which transitions are currently underway over staggered 13-month periods (9 months in one case). Given the time it has taken in the past to implement 10-digit dialing to add a new area code over an existing one, we are persuaded covered providers will need significant time to devise and enact a plan for prompt implementation across so many areas. At the same time, as discussed above, we expect carriers to be able to speed 10-digit dialing implementation significantly compared to the past because of the economies of scale and lessons learned from implementing across numerous areas at once, ability to compress the typical implementation schedule by performing consumer education simultaneously with technical work, elimination of the need for initial state action to begin the 10-digit dialing process, extensive industry experience in implementing such transitions, and elimination of the work typically needed to implement a new area code when implementing 10-digit dialing. We observe that covered providers have not previously had such strong reason to investigate efficiencies. We anticipate that the necessary investments to implement 988 at a faster pace compared to previous timetables, which were spread out in time and geography, will reveal new efficiencies that were not possible previously. AT&T argues that transitioning even 9 NPAs concurrently every 6 months would represent a 33% increase in its fastest ongoing transition schedule and 50% faster than its typical transition schedule. AT&T claims that even at a pace of 11 or 12 NPAs, it would still take over four years for it to transition the 716 legacy switches in the 50 seven-digit dialing NPAs with 988 NXX where AT&T offers wireline service. As we explain, however, the need to transition so many NPAs at once has not previously existed, and we anticipate that greater investment and efficiencies discovered thereby will speed implementation. We thus disagree with arguments that there are likely no additional efficiencies to be realized. Moreover, these same covered providers have failed to commit to any definite deadline. We must make a choice, and we cannot abdicate our duty to apply our expertise to the regulated parties. Taking into account the differences compared to 10-digit dialing implementation in the past, we find that setting a deadline of July 16, 2022, allows sufficient time for carriers to meet the challenges of implementing 10-digit dialing in 87 area codes. We do not, as a general matter, agree with commenters' assertions based solely on past timelines that the need to transition to 10-digit dialing in some areas of the country justifies a longer (or significantly longer) implementation timeframe.

33. We also observe that moving forward to 10-digit dialing at an intensified pace furthers long-standing industry goals. Over twenty years ago, ATIS's Industry Numbering Committee, an open forum to address and resolve industry-wide numbering issues, recommended moving to a uniform 10-digit dialing plan, citing reduced customer confusion—particularly in today's mobile society—and support for a consistent, fair, and equitable competitive environment as the benefits. The recommendation specifically highlighted that 10-digit dialing should be implemented “as the opportunity presents itself.” Today's Order is consistent with these long-accepted industry goals, and in fact will help the industry move forward expeditiously while also helping to realize the important life-saving benefits of nationwide deployment of a 3-digit code for the Lifeline.

34. We disagree with arguments submitted by USTelecom and AT&T that our implementation timeline fails to account for changes that must be made by end-user customers to accommodate 10-digit dialing. As discussed above, we recognize that customer education is an important part of the 10-digit dialing transition process, and we expect the North American Numbering Plan Administrator to build time for such efforts into the schedule it establishes. While we are sympathetic to end users who experience complications, we find this an insufficient basis to delay our deadline for several reasons. Such disruptions are inevitable for many end users anyway, as 10-digit dialing transitions in response to number exhaust would continue to occur regardless of today's Order. As discussed above, customers today are more used to 10-digit dialing and are more likely to employ modern equipment, so we expect disruptions to be reduced compared to the past. USTelecom does not adequately explain why the stakeholders it references cannot begin preparations for the transition to 10-digit dialing prior to its implementation on their networks. USTelecom and AT&T also have not attempted to quantify the costs of such complications for end users, but given the order of magnitude by which the benefits of prompt 988 implementation outweigh the costs, we find it highly unlikely that such costs to end users would cause us to reevaluate the deadline we adopt. Of note, neither end users nor representatives of end users have raised this argument themselves. Finally, USTelecom, AT&T, and other USTelecom members have downplayed the significance of precisely the same sorts of impacts of technology changes on downstream end users when it served their regulatory agendas—as USTelecom has correctly argued, “antiquated, analog-based equipment . . . need not stop technology transitions in their tracks.” In any event, we recognize that the transition to 10-digit dialing will entail some inconvenience and cost for the entities referenced by USTelecom, as well as their customers. However, as we have explained, these costs are easily exceeded by the benefits 988 offers to the American public.

35. With respect to the second gating step for ubiquitous 988 implementation—enabling switches to route calls to 988 to the Lifeline—we similarly conclude that the deadline we set of July 16, 2022, is sufficient but no more than necessary. We recognize that translating and upgrading or replacing legacy switches in use by legacy carriers—up to 12% of those in use in the country—to accommodate a new 3-digit, non-N11 code poses significant challenges. We estimated in the Notice that about 6,000 switches need upgrading or replacement. Commenters did not dispute this estimate. However, given the time that has elapsed since the publication of the April 2019 data relied on in the Notice and ongoing progress and investment by legacy carriers in the IP transition, we expect that this estimate may overstate the number of switches that require upgrades. Legacy carriers have voiced concerns about upgrading or replacing legacy switches, which may need to be done across geographically large swaths of providers' networks and would require extensive planning and testing. These commenters point to a lack of personnel trained in upgrading legacy switches and the need for technicians to replace them. They claim that this shortage of skilled workers constrains their ability to implement 988 in the timeframe provided. USTelecom explains, however, that it “has become clear that 988 could be implemented through switch translations and upgrades in areas with 10-digit dialing,” the costs for which “are significantly less than the switch replacements contemplated” in the Notice. And despite these claims regarding a lack of skilled workers, USTelecom and its members have not shown how many workers are available, either on their current payrolls or through hiring or contracting, to perform the required work. Two years is a substantial period of time, and thus we find these unquantified statements that covered providers face resource constraints before they have even begun the work unconvincing. We recognize that significant work is required and that investing in the capacity necessary to perform the many hours of work required may be costly, but the benefits of 988 implementation greatly outweigh the costs, and USTelecom and its members have not shown that such investment not possible or otherwise infeasible. Further, carriers with legacy switches have represented that they have been in the midst of an IP transition involving extensive updates to their TDM-based networks, technology that they have repeatedly claimed will be obsolete very soon. Indeed, USTelecom states that its members “have invested billions of dollars to facilitate an IP transition already.” We therefore believe, consistent with providers' oft-repeated statements on progress made in transitioning legacy networks, that a July 16, 2022 deadline provides sufficient time to require all covered providers to upgrade and translate switches on their network.

36. We also find the implementation timeframe we establish will benefit those covered providers for which implementation will require the most technical work, as they are the most likely to benefit from improvements to their networks. An IP-based network, in addition to allowing 10-digit dialing and implementation of short codes such as 988, provides improved network performance and speed, efficiency, reliability, scalability, and security, making innovative protective technologies such as caller ID authentication available. Additionally, IP-based networks typically use soft switches, which “are economically desirable because they offer significant savings in procurement, development, and maintenance. Such devices feature vastly improved economies of scale compared to switches based on specialized hardware.” AT&T argues that the need to move to 10-digit dialing does not mean that providers will necessarily pursue an IP-based solution, and it argues that an IP transition cannot be completed in two years. Although these arguments appear at odds with the position AT&T has taken with respect to the pace and importance of IP transition, we also do not expect that in the process of implementing 988 the IP transition will be completed. Rather, it represents a meaningful incremental step, and taking incremental steps toward an IP-based network is likely to ease the path to future upgrades, benefitting carriers and the public alike.

37. Single Deadline. In setting an implementation timeframe, we consider the advantages and disadvantages of establishing a single deadline versus a phased-in approach with multiple deadlines (e.g., based on the type of service provider) to accommodate those providers that may need more time to implement 988 in their networks. Weighing these factors, we find that rollout of 988 will be most effective if we set a single implementation deadline so that stakeholders can clearly and consistently communicate to the American public when 988 will be universally available. While a phased-in approach could allow us to set a shorter deadline for some providers, it risks failed attempts to reach 988 by callers who are likely to be unaware of the details of staggered regulatory deadlines or the technical intricacies of the telephone system on which they rely. Confusion about what number to call could be disastrous for individuals and, in the aggregate, could erode trust in the Lifeline. As one of the parties advocating for a phased-in approach concedes, “ `[n]on-uniform access to 988 will confuse callers and be a detriment to accessing crisis services.' ” Requiring voice service providers to implement 988 by different deadlines poses exactly this risk. And commenters advocating for an 18-month deadline for most voice service providers and a later (unspecified) deadline for legacy wireline carriers do not explain how public education campaigns could be effectively conducted to ensure that customers of “wireless, VoIP, and non-legacy wireline networks” know about the availability of the new, shorter Lifeline number at the 18-month mark while also ensuring that customers of legacy wireline networks know that they should not call that number yet. This reality is compounded by the fact that a consumer may purchase both mobile wireless phone service and legacy wireline home phone service (including from the same company, such as AT&T or Verizon) and may have the expectation that if 988 works on one of their phones, it will work on the other. Although we recognize that some providers may implement 988 before the deadline we set, we anticipate less consumer confusion with a single widely known “available-no-later-than” date, accompanied by coordinated, national consumer education campaigns. We also expect and encourage providers to coordinate with Commission staff, SAMHSA, and the VA before moving forward with early adoption, which will further facilitate clear and informative public education campaigns. To simplify coordination, we ask parties considering early implementation to contact 988@fcc.gov. Commission staff will monitor that email address and share any information received with relevant SAMHSA and VA staff.

38. We therefore decline to adopt a technology-based, phased-in implementation approach as some commenters urge. We recognize that many of the legacy switches that require upgrading to implement 988 may reside in states with rural legacy networks. Many of the area codes that are affected are largely rural. And while we understand that networks in rural areas in particular may pose more acute challenges due to issues such as weather and physical remoteness, the record also demonstrates that the need to ease access to life-saving suicide-prevention resources is also particularly acute in rural and remote areas. As we have previously explained, “suicide does not discriminate by geographic region, and to be effective, any code designated for a national suicide prevention and mental health crisis hotline system must be ubiquitously deployed.” A phased-in approach would risk delaying 3-digit access to some of the areas of the country that need it most. As Mental Health America explains, “[i]n establishing the timeline,” the Commission “must ensure universal access to the new 988 number,” even if implementation takes longer, to avoid “excluding certain rural jurisdictions or other populations from having access.”

39. We also decline to adopt a phased-in approach on the basis that “service providers simply do not have the necessary personnel to make all necessary network changes and upgrades at one time.” We account for these challenges by ensuring adequate time for the transition, rather than by foregoing the benefits of a single deadline.

40. Declining Additional Delay. We decline requests for an unspecified amount of time for implementation. Setting an indefinite timeframe for providing 3-digit access to potentially life-saving resources would be contrary to the public interest. The lack of regulatory certainty would also risk public confusion, hinder preparation by parties involved with operating the Lifeline, sharply reduce the incentive for carriers to upgrade their networks promptly, and complicate planning and budgeting for all parties involved. Moreover, none of the carriers requesting this delay offers a concrete plan to ensure ubiquitous deployment of 988 in a timely manner. USTelecom's plan would only establish a deadline for 97% of households, leaving the others—mostly in rural areas—waiting indefinitely. AT&T argues that the Commission should “avoid a premature implementation schedule” and proposes that the Commission solicit “input on the appropriate implementation schedules that begins 36 months after [designation of 988] is set.” Similarly, the Alliance for Telecommunications Industry Solutions asserts that it is “premature” to establish an implementation deadline before first determining where 988 calls will be routed, whether 10-digit dialing will be mandated, and other “key decisions.” But that is the very purpose of this notice-and-comment rulemaking proceeding. The unwillingness of USTelecom, AT&T, and CenturyLink to identify any point in time by which they could complete 988 implementation provides an additional basis to reject their various post-circulation attempts to poke holes in the deadline we selected. AT&T claims that covered providers are in the best position to know how long implementation will take, but even assuming that to be true, it does us no good if they will not tell us. We recognize that, according to some commenters, the original 18-month deadline proposed in the Notice provided insufficient time for implementation; thus, we have provided additional time accordingly. Based on the foregoing analysis, we decline requests to adopt the 18-month deadline proposed in the Notice. We do not believe that it is in the public interest, however, to provide a general extension beyond two years.

41. We also reject arguments that the possible need to bolster the Lifeline's resources is a reason to establish a lengthier deadline. Notably, neither SAMHSA nor the VA have suggested that they require additional time to prepare with necessary and approved funding, resources, and support to handle increased demand. We reject arguments to the contrary by parties that, unlike SAMSHSA and the VA, are not well-positioned to evaluate the Lifeline's needs. While additional resources may need to be devoted to the Lifeline to ensure a smooth transition, USTelecom's recommendation that “the implementation timeline for 988 should only be triggered once [SAMHSA] . . . or another appropriate federal entity can certify that the Lifeline call centers have adequate network, staffing, and back-up capabilities to handle the anticipated increase in call volume” ignores the fact that these same entities have expressed no reservations about preparedness in an 18-month timeframe as proposed in the Notice, let alone a deadline of July 16, 2022. We therefore reject suggestions to establish a lengthier deadline based on the need to prepare the Lifeline for a potential increase in calls.

42. Finally, while we conclude that we should adopt a uniform nationwide policy of transitioning to 10-digit dialing in areas in which 988 is an NXX code and a uniform nationwide implementation deadline, we recognize that each of these decisions could lead to unusual hardships in some circumstances. Some parties have argued that “despite the best intentions and efforts of all stakeholders” waivers may be necessary “due to the complexity and operational challenges associated with implementing 10-digit dialing.” We observe that nothing in this Order impedes parties' ordinary right to seek a waiver of our rules for good cause shown. We may exercise our discretion to waive a rule where the particular facts at issue make strict compliance inconsistent with the public interest. In considering whether to grant a waiver, we may take into account considerations of hardship, equity, or more effective implementation of overall policy on an individual basis. We caution that waivers are not routinely granted, and that any party seeking a waiver must demonstrate both (i) that particular circumstances warrant a deviation from the general rules we adopt today, and (ii) that grant of a waiver will further the important policy objectives of this Order. Parties seeking a waiver of our 10-digit dialing mandate should be prepared to demonstrate why their unique circumstances support a deviation from our uniform nationwide policy requiring 10-digit dialing in areas in which 988 is an NXX code. We note that GCI, the Alaska Telecom Association and Alaska Communications have argued “given the unique network architecture” in Alaska, which has a single area code, carriers “can ensure all 988 calls reach their intended recipient by transitioning to 10-digit dialing only in the limited geographic area where 988 is used as an NXX, without necessarily requiring that the entire state of Alaska transition to 10-digit dialing.” On this basis, GCI et al. argues that we should clarify that our 10-digit dialing mandate applies to an “area” that uses 7-digit dialing and has 988 as an NXX prefix, rather than an “area code.” We decline to issue the clarification requested by GCI et al. because, as USTelecom correctly argues, inserting such “broadly applicable language . . . could create additional uncertainty and risk[] undermining the Commission's objective of expeditious and uniform nationwide implementation for 988.” Nevertheless, we note that GCI et al. remain free to petition the Commission for a waiver of our 10-digit dialing rule, as described in this section. Similarly, parties seeking a waiver of our uniform 988 implementation deadline of July 16, 2022 should be prepared to demonstrate that they have put forward best efforts to comply with our deadline, and detail the specific circumstances that have prevented such compliance.

5. Cost Recovery

43. In the Notice, we proposed that all service providers bear their own costs of implementing 988 in their networks. We adopt this proposal. As we explained in the Notice, this approach encourages affected entities to make any needed upgrades efficiently and avoids unnecessary administrative costs. Unlike previous numbering proceedings in which the Commission established a cost recovery mechanism, here no shared industry costs such as central or regional numbering databases or third-party administrators are necessary to implement 988. The Commission divided the costs for local number portability into (1) shared costs; (2) carrier-specific costs directly related to providing number portability; and (3) carrier-specific costs not directly related to providing number portability. The Commission established an industry-wide cost recovery mechanism for the shared costs of number portability, which included the costs of administering the regional databases. Because no shared industry costs such as central or regional numbering databases or third-party administrators are necessary to implement 988, we conclude that the numbering administration requirement of section 251(e)(2) does not apply. As explained in the Notice, the Commission is only required to apply section 251(e)(2) in situations involving some type of numbering administration arrangement. No commenter disputes this proposed finding in the Notice. Rather, the costs incurred are provider-specific, as each service provider determines a solution to route its 988 calls to 1-800-273-8255 (TALK), which will vary significantly by individual provider. In addition, it is typical in non-numbering matters for providers to comply with Commission rules without a specific cost recovery mechanism. We note that our decision does not preclude service providers from reflecting any increased costs incurred as a result of 988 implementation in their rates charged to end users. Moreover, we recently issued a Notice of Proposed Rulemaking in a separate proceeding in which we proposed providing carriers with pricing flexibility nationwide for voice services.

44. We therefore disagree with commenters who argue that we should provide a mechanism for carriers to recover their costs associated with the implementation of the 988 dialing code. For example, USTelecom argues that we should provide a cost recovery mechanism because “[w]hen imposing new abbreviated dialing codes in the past, the Commission has allowed states to regulate cost recovery for telecommunications providers in most instances.” The examples cited by USTelecom, related to the designation of N11 codes, do not support the proposition that we must designate a cost recovery mechanism in this proceeding. It is true that, in designating 311 as a nationwide number for non-emergency services, we noted that telecommunications service providers might incur costs to enable 311, and that “states would regulate cost recovery in most instances.” Critically however, as the Commission explained, this was appropriate because “311 calls, like 911 calls, are typically intrastate” and the nature and “[f]unding of 311 service . . . is a local issue.” Similarly, the 211, 511, and 811 designations referenced by USTelecom involved providing callers direct access to local resources administered by states and localities. Here, however, we are establishing a 3-digit code for reaching the nationwide toll free number of the Lifeline, a resource administered by the federal government. Under these circumstances, the argument that we should defer to the states regarding cost recovery mechanisms is far less compelling.

45. USTelecom further argues that a cost recovery mechanism is warranted because “[r]equiring carriers to bear the costs of mandated implementation of 988 while also urging carriers to deploy SHAKEN/STIR authentication . . . compounds the financial impact, consuming scarce capital resources and lessening carriers' ability to invest in broadband.” And CenturyLink contends that we should authorize a cost recovery mechanism because “the vast majority of 988 implementation costs will be borne by the legacy wireline companies.” We recognize that carriers with significant legacy infrastructure may incur higher costs in implementing 988 than other voice service providers. However, this does not suggest that we should provide a mechanism to recover those costs. To the contrary, a recovery mechanism would risk undesirable distortions because, as we observed in the Notice, any costs borne by telecommunications carriers and VoIP providers will be proportional to the size and quality of their networks. As discussed above, the switch translations or upgrades necessary to implement 988 are likely to largely coincide with those required for the transition to IP-based services. For this reason, the carriers that would be the most likely to need to spend more on upgrades in the absence of today's rules—those with large networks with older infrastructure—will be the same providers that must spend more in order to implement 988.

46. Finally, we remind carriers that “upgrades to legacy switches will have significant offsetting benefits beyond the immediate context of this proceeding, such as providing consumers with the benefits of more advanced, IP-based services as well as new business opportunities for providers.” Given these significant benefits to carriers, we conclude that the costs associated with implementing 988 should be borne by service providers. And, as we noted above, our decision today does not preclude carriers or providers from adjusting their rates to end users to account for these costs if necessary.

C. Assessing the Benefits and Costs of Designating and Implementing 988

47. We are convinced that designating and implementing 988 will enable Americans to more easily access proven, life-saving suicide prevention and mental health crisis services, and the benefits of our actions today far surpass the costs of implementation. In the Notice, we estimated that if the new 988 dialing code could deter just one out of every one thousand suicides and suicide attempts, “the estimated benefit of $2.4 billion in present value over the course of ten years will exceed the estimated, one-time $367 million in present value implementation cost to service providers.” We sought comment on this preliminary conclusion. Based on the record and updated 2018 data from the CDC, we continue to estimate that a 0.1% reduction in suicide mortality will create $2.4 billion in present value benefits over the course of ten years. This benefit alone far exceeds the estimated present value costs of implementation, which remains $367 million. We also recognize that there are other significant benefits to 988 beyond a reduction in mortality, including cost savings for medical care and public safety, further indicating that the benefits of our action today greatly outweigh the costs.

1. Benefits

48. Estimates indicate that “nearly one-half of the American public has been impacted by suicide.” The Lifeline and Veterans Crisis Line provide critical and proven services that save lives, and expanding access to these services through the implementation of 988—an easy-to-remember, 3-digit dialing code—will save lives. In the Notice, we provided a range of estimated reductions in suicides resulting from the implementation of 988, and estimated that even a small reduction, a 0.1% decline in suicides, would save $451 million annually. We explained that estimating a precise reduction in suicide incidence is difficult and we therefore proposed to evaluate plausible suicide-reduction scenarios. No commenters directly addressed our range of estimated reductions in suicides, and we see no reason to depart from our estimates in the Notice. There, we assigned mortality reductions a monetary value based on the value of a statistical life (VSL), a measure of the collective willingness to pay to avoid a marginal increase in the risk of premature death. Multiplying the number of saved lives corresponding to various suicide prevention scenarios by the VSL yields a range of annual benefits corresponding to the suicide reductions achieved. We evaluate the most modest suicide reduction scenario of 0.1% to provide the most conservative estimate of benefits.

49. In 2018, 48,344 Americans died by suicide, and an estimated 1.4 million attempted suicide. This is an increase in suicides of 1,344 compared to the 2017 CDC data used for the estimate in the Notice. Based on 2018 CDC data, a marginal decline of 0.1% would save 48 people. Multiplied by the VSL, this results in an estimated annual benefit of $461 million (48*$9.6 million). This estimate is higher than our earlier $451 million estimate of the annual benefit due to the increase in total suicides from 2017 to 2018. In 2018, 1,344 more persons died by suicide than in 2017. If our actions would save 0.1% of this change, that would be 1.34 lives. This rounds to a single life saved. Multiplied by the VSL, the resulting value of the one-person increase in mortality is $9.6 million. Over ten years, the present value of the mortality reduction using 2017 suicides is $2.352 billion vs. $2.404 billion using 2018 suicides. Both figures round to $2.4 billion. For every expected life saved, the VSL is equal to $9.6 million. If the 988 dialing code deters one out of every 1,000 Americans who would otherwise die by suicide, we estimate the annual benefit would be approximately $461 million. The present value of this benefit over ten years, using a 7% discount rate, is approximately $2.4 billion. We use a 7% discount rate throughout, consistent with Office of Management and Budget guidance. When the proposed regulation primarily affects private consumption, OMB recommends a lower discount rate of 3%. OMB encourages regulatory analyses to present net benefits using both 3% and 7%. For our analysis here, however, the lower 3% discount would only increase the net benefits. For the sake of simplicity and to be conservative, we calculate net benefits using the 7% discount rate. Vibrant Emotional Health, the only commenter to address the issue, supports the $2.4 billion estimate of benefits attributable to suicide reduction.

50. We agree with commenters that the overall benefits of designating and implementing a 3-digit dialing code are broader than the direct benefits of saving lives. Vibrant Emotional Health contends that the benefits of reducing suicides and suicide attempts also include “cost savings from averted suicide attempts and de-escalation of suicidal distress.” These benefits include decreased burdens on public health and safety emergency services as well as on the family and those closest to the impacted individual. These benefits are conceptually and causally different from the VSL. Medical treatment cost is the direct, aggregate, out-of-pocket cost of treating self-inflicted wounds. Lost-productivity cost is the indirect cost measured by the aggregate lost-earnings caused by self-inflicted wounds. The VSL measures neither lost earnings nor medical costs. The VSL is defined as the marginal rate of substitution between income and mortality risk, which intuitively measures the rate at which individuals are willing to trade money for the reduced risk of death. The VSL does not measure the value of life, but rather the individual's willingness to pay to reduce risk. We agree that these are additional benefits of designating and implementing a 3-digit dialing code. Since quantifying these additional benefits is not necessary to show that the benefits far outweigh the costs, we do not quantify them in our cost benefit calculation. We estimate based on the most recent data available from the CDC, if only 0.1% of suicides are averted by the 988 code, then nearly $795 million dollars in medical treatment and lost productivity costs would be saved annually. CDC estimates that the 41,149 suicides in 2013 cost the U.S. economy almost $51 billion in medical treatment and value of lost work. Suicide attempts—non-fatal self-harm injuries— resulted in nearly $12 billion in medical and work-loss costs in 2013 ($11.9 billion is the sum of $11.3 billion in medical and work-loss costs for persons whose self-harm injuries required hospitalization and $627 million in medical and work-loss costs for persons treated for self-harm injuries in a hospital emergency room and then released). Together, the total cost of suicides and suicidal attempts was approximately $63 billion (CDC estimates that the 41,149 suicides in 2013 cost the U.S. economy almost $51 billion in medical treatment and value of lost work). Adjusting to 2018 dollars and accounting for changes to the suicide rate, we estimate total work-loss and medical costs were approximately $79.5 billion. We believe this estimate is understated given the effectiveness of crisis counselors in reducing suicides and expected increases in calls to the Lifeline from 988 implementation. Because we did not specifically seek comment on these estimates in the Notice and because it is not necessary to include these estimates to show that the benefits of 988 far outweigh the costs, we exclude these estimates from our cost benefit calculation out of an abundance of caution. Similarly, we recognize commenters' claims that implementing 988 will confer other benefits that will appear as cost savings elsewhere in the public safety system, and ultimately in federal, state and local government budgets. When crisis services are unavailable, at-risk individuals are often taken by police to local jails, consuming costly police services and jail beds. By connecting at-risk individuals to counselors instead, a 988 code could spare the economy this cost. As several commenters note, diverting individuals in crisis away from emergency services that have higher costs would result in significant savings. While we are unable to estimate benefits of our actions in preventing these losses, it is unnecessary since our benefit estimates already far outweigh the costs of 988 implementation.

2. Costs

51. In the Notice, we estimated that service providers would incur one-time outlays to update switches and replace legacy equipment of $367 million in present value. This estimate was assumed to be incurred one year into the future and was discounted back to present day using the 7% discount rate. Estimated costs included $300 million for upgrading and replacing switches and $92.5 million for translation updates. We sought comment on the accuracy of these estimates and whether providers would face other costs. We received support for our proposal, and no commenter offers detailed information that causes us to deviate from our proposed cost estimate. We therefore adopt our proposed $367 million cost estimate.

52. In its comments, USTelecom argued that the Notice underestimates implementation costs because it “failed to account for the fact that switch replacement will typically also require reconfiguration or construction of facilities to connect that switch.” USTelecom has since altered its position and states that with 10-digit dialing, switch replacement is not necessary. Instead, it states that “988 could be implemented through switch translations and upgrades in areas with 10-digit dialing,” so that “[w]hile carriers will still incur costs associated with these switch translations and upgrades, they are significantly less than the switch replacements contemplated in the Suicide Hotline NPRM.” USTelecom has not quantified the costs it now expects, nor did it quantify the costs for reconfiguration or construction that it originally identified. Based on USTelecom's latest assertions, we now expect that our cost estimate is overstated by a significant amount. “For the approximately 4,750 switches with a direct upgrade path to IP, we expect a relatively low cost of approximately $30,000 per switch. We estimate an average per switch replacement cost of $100,000 for the approximately 1,400 switches without a clear upgrade path. Upgrading or replacing all switches, therefore, would cost ($100,000 × 1,400 full upgrades =) $140 million and ($30,000 x 4,750 field upgrades =) $142.5 million, for a total cost of $282.5 million which we round up to $300 million.” Nevertheless, because we lack record evidence on which to base a different cost calculation, and because a lower cost figure is unnecessary to show that the estimated benefits far exceed the estimated costs, we adopt our proposed $367 million cost estimate. If we assumed that the $30,000 per switch upgrade cost proposed in the Notice applied to the switches that we proposed concluding would require replacement or upgrade, that would yield 6,150 switches × $30,000 = $184.5 million in upgrade costs; and adding translation updates would yield total estimated cost of $251.5 million. But it is not clear from the record whether it is correct to assume that the upgrade cost would apply uniformly to the switches we proposed concluding would require replacement.

53. We also note that switch upgrades or replacements necessary for 988 implementation will provide an added cost savings by reducing future upgrade and maintenance costs. We could add these future savings, which we do not quantify, to our estimate of total benefits.

54. Finally, we recognize several commenters expressed concern that additional funding for crisis call centers will be needed to successfully implement 988. We agree that both call volumes and costs are likely to increase with the transition to 988, but we are confident that our federal partners, with necessary and approved funding, resources, and support to handle increased demand will be well-positioned to assist the additional Americans who are able to reach needed help because of our adoption of 988 in light of their support for this proceeding. The relatively small added cost to the Lifeline of each additional call is greatly outweighed by the benefit flowing from the possibility that the call may have saved a life. Given the gulf between the benefits and costs we have quantified, it is highly unlikely that the additional costs arising from handling an increased call volume would lead overall costs to exceed the enormous benefits of using 988 as a 3-digit, easy-to-remember number to reach the Lifeline. Accepting SAMHSA's estimated additional call volume costs of $50 million annually, increases the net present value of total costs over ten years by $351 million (assuming the call volume increase occurs instantly at the inception of the hotline in Year 1). The over $2 billion in net benefits estimated above is more than sufficient to offset this increased cost. If the increase in call volume occurs with a lag as the 988 code is implemented, the present value of increased-call-volume costs decreases, thereby increasing the net benefit.

D. Other Issues

55. We are pleased to have the opportunity we take today, in our capacity as the federal regulator of our nation's communications networks, to contribute to the Lifeline's effectiveness as a resource for suicide prevention and mental health crisis services. Our role, however, is limited—we cannot and do not wish to usurp the role of our federal partners or others in operating the Lifeline itself. In response to the Notice, some commenters raised other issues that, while important, are best addressed in the first instance by others and, in some cases, reach beyond our jurisdiction. We briefly discuss these issues below. We encourage interested parties to work with our federal partners, SAMHSA and the VA, as well as other stakeholders to increase the overall effectiveness of the Lifeline and the Veterans Crisis Line, and we note that we are able to revisit these issues in the future if appropriate.

56. Texting to 988. In the Notice, we sought comment on whether and how to “account for the fact that Americans, particularly younger Americans, increasingly rely on texting to communicate.” Numerous mental health experts that commented in the record emphasize the importance of texting as a medium by which some individuals, particularly members of certain vulnerable communities such as young people, low-income individuals, members of the LGBTQ community, and individuals who are deaf and hard of hearing, may wish to obtain crisis counseling. We are pleased that several text-based options are available nationwide, including a short-code to reach the Veterans Crisis Line (838255) and the Crisis Text Line (741741), a private non-profit service that offers “a free, 24/7 . . . crisis texting service to the public” and that has “over 27,000 trained Crisis Counselors in the U.S.” and has “exchanged over 130 million text messages with people in crisis since . . . August 2013.”

57. At the same time, we agree with the Crisis Text Line and CTIA, which argue that it would be premature for us to take action regarding text-to-988 capability in this Order. The Lifeline currently lacks an integrated text service. As CTIA argues, the “crucial issue for deployment of text-to-988 will be mental health crisis centers' election, and technical ability, to receive and respond to messages in text medium.” We do not have the authority to require the Lifeline and its crisis centers to develop the technical capability to accept and respond to texts. We also do not wish to usurp the role of SAMHSA, which has the mental health expertise to determine how best to allocate the Lifeline's resources to assist Americans in need. In the absence of integrated texting capability, we do not see how the benefits of imposing a mandate on covered providers would exceed the costs. We therefore defer consideration of mandating text-to-988 at this time so that we could revisit the issue promptly should the Lifeline develop integrated texting. For these reasons we also decline at this time to mandate real-time text capability to 988 as requested by Telecommunications for the Deaf and Hard of Hearing, Inc. et al. We also decline at this time the Boulder Regional Emergency Telephone Service Authority's request that we act to ensure that the Lifeline can access caller location information for the purpose of handing off calls to local Public Safety Answering Points. Transmission of call location information is a technically complicated issue that we cannot resolve on the record before us. Further we do not wish to unduly delay or complicate implementation of 988 and the life-saving benefits it offers to Americans in crisis. At present, we encourage Americans who wish to obtain mental health crisis counseling via text and chat to use existing resources provided by SAMHSA, which provides a chat portal on the Lifeline website; the VA, which offers veterans both an online chat service and a text service accessible by dialing 838255; or the Crisis Text Line, a private non-profit service that offers a free, 24/7 crisis texting service to the public.

58. Direct Video Calling to 988. Some commenters urge us to require the deployment of a direct American Sign Language (ASL) suicide prevention hotline for individuals who are deaf or hard of hearing to interact with the Lifeline without the need for an interpreter. We encourage the deployment of direct communications solutions for individuals with disabilities and have adopted several policies to provide sign language users with access to enhanced options for point-to-point communications. We recently adopted rules to facilitate consumer support call centers in implementing direct video calling and enabling sign language users to communicate directly with signing call center representatives. We decline, however, to mandate deployment of a direct ASL suicide prevention hotline because we lack authority over the functions or administration of the Lifeline and because our rules facilitate rather than mandate direct video calling. We emphasize that the Lifeline is available to users of TRS, and TRS users will be able to reach the Lifeline via 988. The Lifeline also maintains a separate TTY number, as well as an online chat portal.

59. Funding for the Lifeline Network. Some commenters raise concerns about whether the Lifeline network and individual call centers have sufficient capacity and funding to meet the increased demand that will likely result from the establishment of the 988 dialing code. While these issues fall outside of our jurisdiction, we note that our federal partners are aware that “increased community crisis center capacity would be necessary to answer the anticipated significant increase in call volume.” And with our adoption of a July 16, 2022 deadline, they will have additional time to prepare for such an increase. We also encourage stakeholders to work with Congress during this period to ensure appropriate funding for the Lifeline.

II. Final Regulatory Flexibility Analysis

1. As required by the Regulatory Flexibility Act of 1980, as amended (RFA), an Initial Regulatory Flexibility Analysis (IRFA) was incorporated into the Notice of Proposed Rulemaking (Notice), released December 2019. The Commission sought written public comments on the proposals in the Notice, including comment on the IRFA. No comments were filed addressing the IRFA. Because the Commission amends its rules in this Report and Order (Order), the Commission has included this Final Regulatory Flexibility Analysis (FRFA). This present FRFA conforms to the RFA.

A. Need for, and Objectives of, the Rules

2. Pursuant to the Suicide Hotline Improvement Act of 2018, the Notice proposed to designate 988 as the 3-digit dialing code for a national suicide and mental health crisis hotline system. The Notice proposed to require all telecommunications carriers and interconnected voice over internet protocol (VoIP) providers to transmit calls initiated by dialing 988 to the current toll free access number for the National Suicide Prevention Lifeline, and to implement such changes within 18 months.

3. Pursuant to these objectives, the Order adopts changes to the Commission's rules to: (1) Designate 988 as the 3-digit dialing code for a national suicide prevention and mental health crisis hotline system maintained by the Assistant Secretary for Mental Health and Substance Use and the Secretary of Veterans Affairs; (2) require all telecommunications carriers, interconnected voice over internet Protocol (VoIP) providers, and one-way VoIP providers (together, “covered providers”) to transmit all calls initiated by an end user dialing 988 to the current toll free access number for the National Suicide Prevention Lifeline, presently 1-800-273-8255 (TALK); (3) require all covered providers to complete 10-digit dialing implementation in areas that use 7-digit dialing and have assigned 988 as a central office code; (4) require all covered providers to complete all changes to their systems that are necessary to implement the designation of the 988 dialing code by July 16, 2022. These modifications advance the goals of the Suicide Hotline Improvement Act of 2018 and the Commission's goal of addressing the growing suicide dilemma facing our country.

B. Summary of Significant Issues Raised by Public Comments in Response to the IRFA

4. There were no comments filed that specifically addressed the proposed rules and policies presented in the IRFA.

C. Response to Comments by the Chief Counsel for Advocacy of the Small Business Administration

5. Pursuant to the Small Business Jobs Act of 2010, which amended the RFA, the Commission is required to respond to any comments filed by the Chief Counsel for Advocacy of the Small Business Administration (SBA), and to provide a detailed statement of any change made to the proposed rules as a result of those comments.

6. The Chief Counsel did not file any comments in response to the proposed rules this proceeding.

D. Description and Estimate of the Number of Small Entities to Which the Rules Will Apply

7. The RFA directs agencies to provide a description of and, where feasible, an estimate of the number of small entities that may be affected by the final rules adopted pursuant to the Order. The RFA generally defines the term “small entity” as having the same meaning as the terms “small business,” “small organization,” and “small governmental jurisdiction.” In addition, the term “small business” has the same meaning as the term “small-business concern” under the Small Business Act. A “small-business concern” is one which: (1) is independently owned and operated; (2) is not dominant in its field of operation; and (3) satisfies any additional criteria established by the SBA.

8. Small Businesses, Small Organizations, Small Governmental Jurisdictions. Our actions, over time, may affect small entities that are not easily categorized at present. We therefore describe here, at the outset, three broad groups of small entities that could be directly affected herein. First, while there are industry-specific size standards for small businesses that are used in the regulatory-flexibility analysis, according to data from the SBA's Office of Advocacy, a small business in general is an independent business having fewer than 500 employees. These types of small businesses represent 99.9% of all businesses in the United States, which translates to 30.2 million businesses.

9. Next, the type of small entity described as a “small organization” is generally “any not-for-profit enterprise which is independently owned and operated and is not dominant in its field . . . .” Nationwide, as of March 2019, there were approximately 356,494 small organizations based on registration and tax data filed by nonprofits with the Internal Revenue Service (IRS).

10. Finally, the small entity described as a “small governmental jurisdiction” is defined generally as “governments of cities, counties, towns, townships, villages, school districts, or special districts, with a population of less than fifty thousand.” U.S. Census Bureau data from the 2012 Census of Governments indicates that there were 90,056 local governmental jurisdictions consisting of general purpose governments and special purpose governments in the United States. Of this number, there were 37,132 general purpose governments (county, municipal, and town or township) with populations of less than 50,000, and 12,184 special-purpose governments (independent school districts and special districts) with populations of less than 50,000. The 2012 U.S. Census Bureau data for most types of governments in the local government category shows that a majority these governments have populations of less than 50,000. Based on this data, we estimate that at least 49,316 local-government jurisdictions fall in the category of “small governmental jurisdictions.”

11. Wired Telecommunications Carriers. The U.S. Census Bureau defines this industry as “establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry.” The SBA has developed a small-business size standard for Wired Telecommunications Carriers, which consists of all such companies having 1,500 or fewer employees. Census data for 2012 shows that there were 3,117 firms that operated that year and that of this total, 3,083 operated with fewer than 1,000 employees. Thus, under this size standard, the majority of firms in this industry can be considered small.

12. Local Exchange Carriers (LECs). Neither the Commission nor the SBA has developed a size standard for small businesses specifically applicable to local exchange services. The closest applicable NAICS Code category is Wired Telecommunications Carriers. Under the applicable SBA size standard, such a business is small if it has 1,500 or fewer employees. U.S. Census Bureau data for 2012 shows that 3,117 firms operated for the entire year. Of that total, 3,083 operated with fewer than 1,000 employees. Thus under this category and the associated size standard, the Commission estimates that the majority of local exchange carriers are small entities.

13. Incumbent LECs. Neither the Commission nor the SBA has developed a small-business size standard specifically for incumbent local exchange services. The closest applicable NAICS Code category is Wired Telecommunications Carriers. Under the applicable SBA size standard, such a business is small if it has 1,500 or fewer employees. U.S. Census Bureau data for 2012 indicates that 3,117 firms operated the entire year. Of this total, 3,083 operated with fewer than 1,000 employees. Consequently, the Commission estimates that most providers of incumbent local exchange service are small businesses that may be affected by our actions. According to Commission data, 1,307 Incumbent Local Exchange Carriers reported that they were incumbent local exchange service providers. Of this total, an estimated 1,006 have 1,500 or fewer employees. Thus, using the SBA's size standard, the majority of incumbent LECs can be considered small entities.

14. Competitive Local Exchange Carriers (Competitive LECs), Competitive Access Providers (CAPs), Shared-Tenant Service Providers, and Other Local Service Providers. Neither the Commission nor the SBA has developed a small-business size standard specifically for these service providers. The most appropriate NAICS Code category is Wired Telecommunications Carriers. Under that size standard, such a business is small if it has 1,500 or fewer employees. U.S. Census Bureau data for 2012 indicate that 3,117 firms operated during that year. Of that number, 3,083 operated with fewer than 1,000 employees. Based on these data, the Commission concludes that the majority of Competitive LECS, CAPs, Shared-Tenant Service Providers, and Other Local Service Providers are small entities. According to Commission data, 1,442 carriers reported that they were engaged in the provision of either competitive local exchange services or competitive access provider services. Of these 1,442 carriers, an estimated 1,256 have 1,500 or fewer employees. In addition, 17 carriers have reported that they are Shared-Tenant Service Providers, and all 17 are estimated to have 1,500 or fewer employees. Additionally, 72 carriers have reported that they are Other Local Service Providers. Of this total, 70 have 1,500 or fewer employees. Consequently, based on internally researched FCC data, the Commission estimates that most providers of competitive local exchange service, competitive access providers, Shared-Tenant Service Providers, and Other Local Service Providers are small entities.

15. We have included small incumbent LECs in this present RFA analysis. As noted above, a “small business” under the RFA is one that, inter alia, meets the pertinent small-business size standard (e.g., a telephone communications business having 1,500 or fewer employees) and “is not dominant in its field of operation.” The SBA's Office of Advocacy contends that, for RFA purposes, small incumbent LECs are not dominant in their field of operation because any such dominance is not “national” in scope. We have therefore included small incumbent LECs in this RFA analysis, although we emphasize that this RFA action has no effect on Commission analyses and determinations in other, non-RFA contexts.

16. Interexchange Carriers (IXCs). Neither the Commission nor the SBA has developed a definition for Interexchange Carriers. The closest NAICS Code category is Wired Telecommunications Carriers. The applicable size standard under SBA rules is that such a business is small if it has 1,500 or fewer employees. U.S. Census Bureau data for 2012 indicate that 3,117 firms operated for the entire year. Of that number, 3,083 operated with fewer than 1,000 employees. According to internally developed Commission data, 359 companies reported that their primary telecommunications service activity was the provision of interexchange services. Of this total, an estimated 317 have 1,500 or fewer employees. Consequently, the Commission estimates that the majority of interexchange service providers are small entities.

17. Local Resellers. The SBA has developed a small-business size standard for Telecommunications Resellers that includes Local Resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. Under the SBA's size standard, such a business is small if it has 1,500 or fewer employees. U.S. Census Bureau data for 2012 shows that 1,341 firms provided resale services during that year. Of that number, all operated with fewer than 1,000 employees. Thus, under this category and the associated small-business size standard, the majority of these resellers can be considered small entities. According to Commission data, 213 carriers have reported that they are engaged in the provision of local resale services. Of these, an estimated 211 have 1,500 or fewer employees. Consequently, the Commission estimates that the majority of Local Resellers are small entities.

18. Toll Resellers. The Commission has not developed a definition for Toll Resellers. The closest NAICS Code category is Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA has developed a small-business size standard for the category of Telecommunications Resellers. Under that size standard, such a business is small if it has 1,500 or fewer employees. Census data for 2012 shows that 1,341 firms provided resale services during that year. Of that number, 1,341 operated with fewer than 1,000 employees. Thus, under this category and the associated small-business size standard, the majority of these resellers can be considered small entities. According to Commission data, 881 carriers have reported that they are engaged in the provision of toll resale services. Of this total, an estimated 857 have 1,500 or fewer employees. Consequently, the Commission estimates that the majority of toll resellers are small entities.

19. Other Toll Carriers. Neither the Commission nor the SBA has developed a definition for small businesses specifically applicable to Other Toll Carriers. This category includes toll carriers that do not fall within the categories of interexchange carriers, operator service providers, prepaid calling card providers, satellite service carriers, or toll resellers. The closest applicable NAICS Code category is for Wired Telecommunications Carriers as defined above. Under the applicable SBA size standard, such a business is small if it has 1,500 or fewer employees. Census data for 2012 shows that there were 3,117 firms that operated that year. Of this total, 3,083 operated with fewer than 1,000 employees. Thus, under this category and the associated small-business size standard, the majority of Other Toll Carriers can be considered small. According to internally developed Commission data, 284 companies reported that their primary telecommunications service activity was the provision of other toll carriage. Of these, an estimated 279 have 1,500 or fewer employees. Consequently, the Commission estimates that most Other Toll Carriers are small entities.

20. Wireless Communications Services. This service can be used for fixed, mobile, radiolocation, and digital audio broadcasting satellite uses. The Commission defined “small business” for the wireless communications services (WCS) auction as an entity with average gross revenues of $40 million for each of the three preceding years, and a “very small business” as an entity with average gross revenues of $15 million for each of the three preceding years. The SBA has approved these small-business size standards.

21. Wireless Telephony. Wireless telephony includes cellular, personal communications services, and specialized mobile radio telephony carriers. The closest applicable SBA category is Wireless Telecommunications Carriers (except Satellite), and under the most appropriate size standard for this category, such a business is small if it has 1,500 or fewer employees. For this industry, U.S. Census Bureau data for 2012 shows that there were 967 firms that operated for the entire year. Of this total, 955 firms had fewer than 1,000 employees and 12 firms had 1000 employees or more. Thus, under this category and the associated size standard, the Commission estimates that a majority of these entities can be considered small. According to Commission data, 413 carriers reported that they were engaged in wireless telephony. Of these, an estimated 261 have 1,500 or fewer employees and 152 have more than 1,500 employees. Therefore, more than half of these entities can be considered small.

22. All Other Telecommunications. The “All Other Telecommunications” category is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Establishments providing internet services or voice over internet protocol (VoIP) services via client-supplied telecommunications connections are also included in this industry. The SBA has developed a small-business size standard for All Other Telecommunications, which consists of all such firms with annual receipts of $ 35 million or less. For this category, U.S. Census Bureau data for 2012 shows that there were 1,442 firms that operated for the entire year. Of those firms, a total of 1,400 had annual receipts less than $25 million and 42 firms had annual receipts of $25 million to $49,999,999. Thus, the Commission estimates that the majority of “All Other Telecommunications” firms potentially affected by our action can be considered small.

E. Description of Projected Reporting, Recordkeeping, and Other Compliance Requirements for Small Entities

23. The Order modifies the Commission's rules to require implementation of 988 as the 3-digit dialing code for a national suicide prevention and mental health crisis hotline by July 22, 2022. The final rules adopted in the Order do not contain any new or additional reporting, recordkeeping, or other compliance obligations.

F. Steps Taken to Minimize the Significant Economic Impact on Small Entities, and Significant Alternatives Considered

24. The RFA requires an agency to describe any significant, specifically small business, alternatives that it has considered in reaching its approach, which may include the following four alternatives (among others): “(1) The establishment of differing compliance or reporting requirements or timetables that take into account the resources available to small entities; (2) the clarification, consolidation, or simplification of compliance and reporting requirements under the rules for such small entities; (3) the use of performance rather than design standards; and (4) an exemption from coverage of the rule, or any part thereof, for such small entities.”

25. The final rules adopted in this Order require that all covered providers to transmit all calls initiated by an end user dialing 988 to the current toll-free access number for the National Suicide Prevention Lifeline, presently 1-800-273-8255 (TALK). Because “suicide does not discriminate by geographic region, and to be effective, any code designated for a national suicide and mental health crisis hotline must be ubiquitously deployed,” the Commission cannot exempt entities from or delay the implementation of 988. However, we do not believe the actions in this Order will overly burden small carriers or providers.

G. Report to Congress

26. The Commission will send a copy of the Order, including this FRFA, in a report to be sent to Congress pursuant to the Congressional Review Act. In addition, the Commission will send a copy of the Order, including this FRFA, to the Chief Counsel for Advocacy of the SBA. A copy of the Order and FRFA (or summaries thereof) will also be published in the Federal Register.

III. Procedural Matters

27. Paperwork Reduction Act of 1995 Analysis. This document does not contain proposed information collection(s) subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

28. Final Regulatory Flexibility Analysis. As required by the Regulatory Flexibility Act of 1980,103 the Commission has prepared a Final Regulatory Flexibility Analysis (FRFA) of the possible significant economic impact on small entities of the policies and rules, as proposed, addressed in this Report and Order. The FRFA is set forth in Appendix B. The Commission will send a copy of this Report and Order, including the FRFA, to the Chief Counsel for Advocacy of the Small Business Administration (SBA).

29. Congressional Review Act. The Commission has determined, and the Administrator of the Office of Information and Regulatory Affairs, Office of Management and Budget, concurs, that this rule is non-major under the Congressional Review Act, 5 U.S.C. 804(2), because it is promulgated under the Telecommunications Act of 1996 and the amendments made by that Act. The Commission will send a copy of this Report & Order to Congress and the Government Accountability Office pursuant to 5 U.S.C. 801(a)(1)(A).

30. People with Disabilities. To request materials in accessible formats for people with disabilities (braille, large print, electronic files, audio format), send an email to fcc504@fcc.gov or call the Consumer & Governmental Affairs Bureau at (202) 418-0530 (voice), 202-418-0432 (tty).

31. Contact Person. For further information about this rulemaking proceeding, please contact Michelle Sclater, Competition Policy Division, Wireline Competition Bureau, at (202) 418-0388 or michelle.sclater@fcc.gov.

IV. Ordering Clauses

32. Accordingly, IT IS ORDERED that, pursuant to authority found in sections 1, 4(i) and 4(j), 201, 225, 251, 255, 303(g), 303(r), and 332(c) of the Communications Act as amended, 47 U.S.C. 151, 154(i), 154(j), 201, 225, 251, 255, 303(g), 303(r), and 332(c) this Report and Order IS ADOPTED.

33. IT IS FURTHER ORDERED that, pursuant to §§ 1.4(b)(1) and 1.103(a) of the Commission's rules, 47 CFR 1.4(b)(1), 1.103(a), this Report and Order SHALL BE EFFECTIVE 30 days after publication in the Federal Register.

34. IT IS FURTHER ORDERED, that the North American Numbering Plan Administrator SHALL ASSIGN 988 as a national abbreviated dialing code to be used exclusively for access to the national suicide prevention and mental health crisis hotline system maintained by the Assistant Secretary for Mental Health and Substance Use and the Secretary of Veterans Affairs as of the effective date of this Report and Order.

35. IT IS FURTHER ORDERED that part 64 of the Commission's rules IS AMENDED as set forth in Appendix A of the Report and Order.

36. IT IS FURTHER ORDERED that the Commission SHALL SEND a copy of this Report and Order to Congress and to the Government Accountability Office pursuant to the Congressional Review Act, see 5 U.S.C. 801(a)(1)(A).

37. IT IS FURTHER ORDERED that the Commission's Consumer and Governmental Affairs Bureau, Reference Information Center, SHALL SEND a copy of this Report and Order, including the Final Regulatory Flexibility Analysis (FRFA), to the Chief Counsel for Advocacy of the Small Business Administration.

List of Subjects in 47 CFR Part 52

Communications common carriers, Telecommunications, Telephone.

Federal Communications Commission.
Marlene Dortch,
Secretary.

Final Rules

For the reasons discussed, the Federal Communications Commission amends 47 CFR part 52 as follows:

PART 52—NUMBERING

1. The authority citation for part 52 is amended to read as follows:

Authority: 47 U.S.C. 151, 152, 153, 154, 155, 201-205, 207-209, 218, 225-227, 251-252, 271, 303, 332, unless otherwise noted.

2. Subpart E, consisting of § 52.200, is added to read as follows:

Subpart E—Universal Dialing Code for National Suicide Prevention and Mental Health Crisis Hotline System

§ 52.200 Designation of 988 for a National Suicide Prevention and Mental Health Crisis Hotline.

(a) 988 is established as the 3-digit dialing code for a national suicide prevention and mental health crisis hotline system maintained by the Assistant Secretary for Mental Health and Substance Use and the Secretary of Veterans Affairs.

(b) All covered providers shall transmit all calls initiated by an end user dialing 988 to the current toll free access number for the National Suicide Prevention Lifeline, presently 1-800-273-8255 (TALK).

(c) All covered providers shall complete 10-digit dialing implementation in areas that use 7-digit dialing and have assigned 988 as a central office code as defined in § 52.7(c) by July 16, 2022.

(d) All covered providers shall complete all changes to their systems that are necessary to implement the designation of the 988 dialing code by July 16, 2022.

(e) For purposes of complying with the requirements of this section,

(1) The term “covered provider” means any telecommunications carrier, interconnected VoIP provider, or provider of one-way VoIP.

(2) The term “one-way VoIP”—

(i) Means a service that—

(A) Enables real-time, two-way voice communications;

(B) Requires a broadband connection from the user's location;

(C) Requires internet protocol-compatible customer premises equipment; and

(D) Permits users generally to receive calls that originate on the public switched telephone network or to terminate calls to the public switched telephone network.

(ii) Does not include any service that is an interconnected VoIP service.

[FR Doc. 2020-16908 Filed 9-15-20; 8:45 am]

BILLING CODE 6712-01-P